DEPARTMENT OF COMMERCE

National Oceanic and Atmospheric Administration

50 CFR Part 648

[Docket No. 020215032-2127 02; I.D. 100102E]

Fisheries of the Northeastern United States; Atlantic Bluefish Fishery; Commercial Quota Transfers

AGENCY: National Marine Fisheries Service (NMFS), National Oceanic and Atmospheric Administration (NOAA), Commerce.

ACTION: Commercial quota transfers.

SUMMARY: NMFS announces that the Commonwealth of Virginia and the States of Florida and Rhode Island have transferred 100,000 lb (45,372 kg), 200,000 lb (90,744 kg), and 125,000 lb (56,689 kg), respectively, of their 2002 adjusted commercial quotas to New York. The revised quotas for the calendar year 2002 following the transfer are: Virginia, 1,095,283 lb (496,952 kg), Florida, 856,269 lb (388,507 kg), Rhode Island 589,851 lb (267,506 kg), and New York, 1,299,372 lb (589,284 kg).

NMFS has adjusted the quotas and announces the revised commercial quotas for Virginia, Florida, Rhode Island, and New York. This action is permitted under the regulations implementing the Fishery Management Plan for the Bluefish Fishery (FMP) and is intended to reduce discards and prevent negative economic impacts to the New York commercial bluefish fishery.

DATES: Effective October 10, 2002 through December 31, 2002.

FOR FURTHER INFORMATION CONTACT: Myles Raizin, Fishery Policy Analyst, (978) 281-9104, fax (978) 281-9135, e-mail Myles.A.Raizin@noaa.gov.

SUPPLEMENTARY INFORMATION: Regulations governing the Atlantic bluefish fishery are found at 50 CFR part 648. The regulations require annual specification of a commercial quota that is apportioned among the coastal states from Maine through Florida. The process to set the annual commercial quota and the percent allocated to each state is described in § 648.160.

The total commercial quota for bluefish for the 2002 calendar year was set equal to 10,500,000 lb (4,762,720 kg) (66 FR 23625, May 9, 2002). The resulting quotas for New York, Virginia, Florida, and Rhode Island were 1,090,436 lb (494,753 kg), 1,247,348 lb (565,787 kg), 1,056,269 lb (479,115 kg), and 714,851 lb (324,251 kg), respectively. Effective, September 12, 2002, (67 FR 57758) New York's quota was reduced by 216,064 lb (98,033 kg) to 874,372 lb (396,721 kg) and, effective October 8, 2002, (FR) Virginia's quota was reduced by 52,065 lb (23,623 kg) to 1,195,283 lb (541,833 kg).

The FMP allows two or more states, under mutual agreement and with the concurrence of the Administrator, Northeast Region, NMFS (Regional Administrator), to transfer or combine part or all of their annual commercial bluefish quotas. The Regional Administrator must consider the criteria set forth in § 648.160(f)(1) in the evaluation of requests for quota transfers or combinations.

Virginia, Florida, and Rhode Island have agreed to transfer 100,000 lb (45,372 kg), 200,000 lb (90,744 kg), and 125,000 lb (56,689 kg), respectively, of their 2002 adjusted commercial quotas to New York. The revised quotas for the calendar year 2002 following the transfer are: Virginia, 1,095,283 lb (496,952 kg), Florida, 856,269 lb (388,507 kg), Rhode Island 589,851 lb (267,506 kg), and New York, 1,299,372 lb (589,284 kg).

The Regional Administrator has determined that the criteria set forth in § 648.160(f)(1) have been met.

Classification

This action is taken under 50 CFR part 648 and is exempt from review under Executive Order 12866.

Authority: 16 U.S.C. 1801 et seq.

Dated: October 2, 2002.
Virginia M. Fay,
Acting Director, Office of Sustainable Fisheries, National Marine Fisheries Service.

[FR Doc. 02-26014 Filed 10-10-02; 8:45 am]

BILLING CODE 3510-22-S